DEPARTMENT OF COMMERCE

National Oceanic and Atmospheric Administration

Establishment of the Ocean Research Advisory Panel and Solicitation of Nominations for Membership

AGENCY: Office of Oceanic and Atmospheric Research (OAR), National Oceanic and Atmospheric Administration (NOAA), Department of Commerce (DOC).

ACTION: Notice of establishment of the Ocean Research Advisory Panel and solicitation of nominations for membership.

SUMMARY: Pursuant to the William M. (Mac) Thornberry National Defense Authorization Act for Fiscal Year 2021 (H.R. 6395) Act and the Federal Advisory Committee Act (FACA), the NOAA Administrator and the Co-Chairs of the Ocean Policy Committee (OPC) announce the establishment of the Ocean Research Advisory Panel (ORAP). The ORAP shall advise the OPC on certain ocean science and research policies, procedures, priorities, and other appropriate matters. The ORAP charter shall terminate two years from the date of its filing with the appropriate U.S. Senate and House of Representatives Committees unless earlier terminated or renewed by proper authority. Notwithstanding section 14 of the Federal Advisory Committee Act, the Advisory Panel shall terminate on January 1, 2040. This notice also requests nominations for membership on the ORAP.

DATES: Nominations should be sent to the email address specified below and must be received no more than 45 days after publication of this notice.

ADDRESSES: Nominations and applications should be submitted electronically to Dr. Cynthia Decker, the Designated Federal Officer (DFO), ORAP, NOAA, at cynthia.decker@noaa.gov.

FOR FURTHER INFORMATION CONTACT: Dr. Cynthia Decker, DFO, ORAP, NOAA (Phone Number: (202) 936-5847), Email: cynthia.decker@noaa.gov and Andrew Peck, Program Support, ORAP, NOAA (Phone Number: 202-964-1254), Email: andrew.peck@noaa.gov in the Office of Science Support, Oceanic and Atmospheric Research.

SUPPLEMENTARY INFORMATION:

I. Background and Authority

Establishment of the ORAP implements a statutory requirement of the William M. (Mac) Thornberry National Defense Authorization Act for Fiscal Year 2021 (H.R. 6395), 10 U.S.C. 8933 et seq. The ORAP is governed by the FACA, as amended, 5 U.S.C. App., which sets forth standards for the formation and use of advisory committees. Responsibilities include the following: (1) to advise the OPC on policies and procedures to implement the National Oceanographic Partnership Program; (2) to advise the OPC on matters relating to national oceanographic science, engineering, facilities, or resource requirements; (3) to advise the OPC on improving diversity, equity, and inclusion in the ocean sciences and related fields; (4) to advise the OPC on national ocean research priorities; and (5) any additional responsibilities that the OPC considers appropriate.

II. Structure

The ORAP shall consist of not fewer than 10 and not more than 18 members appointed by the co-chairs of the OPC, including each of the following: (A) three members who represent the National Academies of Sciences, Engineering, and Medicine; (B) members selected from among individuals who represent the views of ocean industries, State, tribal, territorial or local governments, academia, and such other views as the co-chairs consider appropriate; and (C) members selected from among individuals eminent in the fields of marine science, marine technology, and marine policy, or related fields.

Members shall serve in a representative capacity; they are, therefore, not Special Government Employees. As such, members are not subject to the ethics rules applicable to Government employees, except that they must not misuse Government resources or their affiliation with the ORAP for personal purposes. All members of the ORAP will be appointed by the OPC Co-Chairs for a three-year term, with one member appointed by the OPC Co-Chairs as the ORAP Chair. Members may not serve on the ORAP for more than two consecutive terms. A member of the ORAP may not serve as the ORAP Chair for more than two terms. The ORAP shall meet not less than two times each year. Additional meetings may be called as deemed desirable by the OPC. Members are reimbursed for actual and reasonable travel and other per diem expenses incurred in performing such duties but will not be compensated for their time. As a Federal Advisory Committee, the ORAP's membership is required to be balanced in terms of viewpoints represented and the functions to be performed. The OPC Co-Chairs shall ensure that an appropriate balance of academic, scientific, industry, and geographical interests are represented by the members of the ORAP. The OPC Co-Chairs shall also make appointments without discrimination on the basis of age, race, ethnicity, gender, sexual orientation, disability, or cultural, religious, or socioeconomic status.

III. Nominations

Interested persons may nominate themselves or third parties. An application is required to be considered for ORAP membership, regardless of whether a person is nominated by a third party or self-nominated. The application package must include: (1) the nominee's full name, title, institutional affiliation, and contact information; (2) identification of the nominee's area(s) of industry perspective—academia, commercial service provider, or end-user; (3) a short description of his/her qualifications relative to the kinds of advice being solicited in this Notice; and (4) a current resume (maximum length four [4] pages). All nomination information must be provided in a single, complete package, and must be sent to the ORAP DFO at the electronic address provided above.

Paul Johnson,
Acting Chief Financial Officer/Administrative Officer, Office of Oceanic and Atmospheric Research, National Oceanic and Atmospheric Administration.

[FR Doc. 2022-13919 Filed 6-28-22; 8:45 am]

BILLING CODE 3510-KD-P